DEPARTMENT OF HEALTH AND HUMAN SERVICES

Centers for Disease Control and Prevention

[60Day-01-06]

Proposed Data Collections Submitted for Public Comment and Recommendations

In compliance with the requirement of section 3506 (c)(2)(A) of the Paperwork Reduction Act of 1995, the Center for Disease Control and Prevention is providing opportunity for public comment on proposed data collection projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Anne O'Connor, CDC Assistant Reports Clearance Officer, 1600 Clifton Road, MS-D24, Atlanta, GA 30333. Written comments should be received within 60 days of this notice.

Proposed Project

NIOSH Research Study for the Prevention of Work-related Musculoskeletal Disorders (MSDs)—New—National Institute for Occupational Safety and Health (NIOSH), Centers for Disease Control and Prevention (CDC). The mission of the National Institute for Occupational Safety and Health (NIOSH) is to promote safety and health at work for all people through research and prevention. There is evidence of causal relationships between physical job stressors (e.g., repetitive or static exertion, forcefulness, awkward postures) and MSDs, and some quantitative information is available on how much rates of MSDs change at varying levels of exposure to each stressor and combination of stressors (exposure-response relationships). Additional information would foster the further development of effective strategies for prevention.

A research project is proposed to conduct a prospective cohort study to quantify the risk for upper limb and low back MSDs at varying levels of exposure to physical job stressors (repetitive, forceful exertion, awkward postures, vibration, manual handling, etc.). This research will involve multiple work sites from the service and manufacturing industries with job tasks that represent a range of exposures to physical job stressors that can result in musculoskeletal disorders of the upper limb (e.g., carpal tunnel syndrome, hand-wrist tendinitis, medial and lateral epicondylitis, hand-arm vibration syndrome (HAVS)) and low back disorders. Because of the limitations of cross-sectional and retrospective studies, it is widely agreed that a prospective study design is the best approach for the investigation of this problem. Up to 2000 workers will be enrolled into the study and will participate in three annual data collection surveys. The surveys will be comprised of a self-administered questionnaire and standard health tests to identify MSDs, including HAVS. Job tasks will be studied using uniform exposure assessment methods to quantify physical stressors. The study data will be used to test and expand existing guidelines for limiting exposure to physical job stressors, and for developing new guidelines where none exist. The results from this research study will provide practitioners in occupational health critical data that will facilitate their ability to quickly and reliably discriminate job tasks that represent low, moderate and high risk for MSDs among workers employed across different industries. In addition, the results of this study will provide guidance on effective job design to reduce the burden of work-related MSDs. The total estimated annual cost to respondents is $33,190.

Data collection activity | Number of respondents | Number of responses per respondents | Response per hour | Response burden (in hrs)
Questionnaire Administration:
Core Questionnaire | 2,000 | 3 | 45/60 | 4,500
Upper Limb Module | 1,000 | 3 | 9/60 | 450
Back Module | 700 | 3 | 6/60 | 210
HAVS Module | 300 | 3 | 15/60 | 225
Intervention Module | 225 | 4 | 6/60 | 90
Physical Examination:
Upper Limb MSDs | 1,000 | 3 | 45/60 | 2,250
Hand-Arm Vibration Syndrome | 300 | 3 | 2.00 | 1,800
Total Respondent Burden Hours: |  |  |  | 9,525

Dated: December 1, 2000.
John Moore,
Acting Associate Director for Policy, Planning, and Evaluation, Centers for Disease Control and Prevention (CDC).

[FR Doc. 00-31315 Filed 12-7-00; 8:45 am]

BILLING CODE 4163-18-P